DEPARTMENT OF COMMERCE

Foreign-Trade Zones Board

[Docket 6-2005]

Foreign-Trade Zone 202—Los Angeles, CA, Application for Foreign-Trade Subzone Status, IKEA Wholesale Inc. (Home Furnishings and Accessories), Lebec, CA

An application has been submitted to the Foreign-Trade Zones Board (the Board) by the Board of Harbor Commissioners of the City of Los Angeles (California), grantee of FTZ 202, requesting special-purpose subzone status for the warehousing and distribution facility (home furnishings and accessories) of IKEA Wholesale Inc. (IKEA), located in Lebec, California. The application was submitted pursuant to the Foreign-Trade Zones Act, as amended (19 U.S.C. 81a-81u), and the regulations of the Board (15 CFR part 400). It was formally filed on January 21, 2005.

The IKEA facility is located at 4104 Industrial Parkway Drive, Lebec (80 acres total; 1.7 million sq. ft. of enclosed space). The facility (approximately 300 employees) may be used under FTZ procedures for warehousing, packaging, labeling, palletization, quality control, recovery/repair, and distribution of home furnishings and accessories. IKEA's application indicates that approximately 10 to 15 percent of the merchandise handled by the facility is domestically sourced.

Zone procedures would exempt IKEA from Customs duty payments on foreign-status merchandise that is re-exported. On its domestic shipments, IKEA would be able to defer duty payments until merchandise is shipped from its facility. The company would be able to avoid duty on foreign merchandise which becomes scrap/waste, estimated at approximately one to two percent of imported products. The application indicates that IKEA anticipates realizing significant logistical/procedural benefits. All of the above-cited savings from FTZ procedures could help improve the facility's international competitiveness.

In accordance with the Board's regulations, a member of the FTZ Staff has been designated examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building—Suite 4100W, 1099 14th Street, NW., Washington, DC 20005; or

2. Submissions Via the U.S. Postal Service: Foreign-Trade-Zones Board, U.S. Department of Commerce, FCB—Suite 4100W, 1401 Constitution Avenue, NW., Washington, DC 20230.

The closing period for their receipt is April 4, 2005. Rebuttal comments in response to material submitted during the foregoing period may be submitted during the subsequent 15-day period to April 19, 2005.

A copy of the application and accompanying exhibits will be available for public inspection at the Office of the Foreign-Trade Zones Board's Executive Secretary at address Number 1 listed above, and at the Bakersfield U.S. Export Assistance Center, 2100 Chester Avenue, 1st Floor Suite 166, Bakersfield, California 93301.

Dated: January 24, 2005.
Dennis Puccinelli,
Executive Secretary.

[FR Doc. 05-2087 Filed 2-2-05; 8:45 am]

BILLING CODE 3510-DS-P